DEPARTMENT OF HEALTH AND HUMAN SERVICES

Centers for Disease Control and Prevention

[30Day 15-0134]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Foreign Quarantine Regulations (42 CFR part 71), (OMB Control No. 0920-0134, Expiration Date 9/30/2017)—Revision — National Center for Emerging and Zoonotic Infections Diseases (NCEZID), Centers for Disease Control and Prevention (CDC).

Background and Brief Description

The purpose of this information collection proposal is to request a revision of a currently approved data collection “Foreign Quarantine Regulations” that expires September 30, 2017. This revision is an effort to provide greater clarity surrounding paperwork requirements and focuses exclusively on certain information collections within OMB Control No. 0920-0134 pertaining to importation of dogs into the United States. Specifically, CDC seeks to make the following changes:

• CDC is asking to correct a transcription error in the burden tables in section 12. Currently, the relevant IC reads: 71.51(b)(2) Dogs/cats: Certification of Confinement, Vaccination (CDC form 75.37). It should have been: 71.51(c)(2) Dogs: Certification of Confinement, Vaccination (CDC form 75.37).

• CDC is also proposing to replace the CDC form 75.37 NOTICE TO OWNERS AND IMPORTERS OF DOGS: Requirement for Dog Confinement with a new Application For Permission To Import A Dog Unimmunized Against Rabies, which, if the importer meets the criteria for importation, will be followed by a CDC-completed Permit to Conditionally Import a Dog Inadequately Immunized against Rabies—Single Entry.

• CDC is also requesting approval to change and split the current information collection (IC) “71.51(c)(2) Dogs/cats: Certification of Confinement, Vaccination (CDC form 75.37)” into two separate ICs.

• CDC will include one modified IC: “71.51(c)(2), (d) Application For Permission To Import A Dog Unimmunized Against Rabies”. This will include a reduced estimate of the numbers of these permits, formerly CDC form 75.37 NOTICE TO OWNERS AND IMPORTERS OF DOGS: Requirement for Dog Confinement, issued each year.

• CDC will include a separate IC pertaining to 71.51(c)(1), (d). The title for this IC is Valid Rabies Vaccination Certificate, which will include only the burden associated with rabies vaccination certificates.

• CDC is also including an information collection for 71.51(c)(i), (ii), and (iii) which provides exemption criteria for the importation of a dog without a rabies vaccination certificate.

CDC is not requesting changes to any of the other information collections included under OMB control number 0920-0134 Foreign Quarantine Regulations.

CDC is providing two estimates of the total annualized burden of this information collection request, because CDC needs the flexibility to use the PLF in a widespread manner during an outbreak of public health significance. The first total, 307,546 burden hours, is the total estimated burden to respondents per year with the use of the Passenger Locator Form used in an outbreak of public health significance. The second total, 82,613 burden hours, includes the more limited use of the PLF. It is more likely that the average annual burden for reporting and recordkeeping will be the second total.

Estimated Annualized Burden Hours
Type of respondent | Form name/CFR reference | Number of respondents | Number of responses per respondent | Average burden per response (in hours)
Maritime conveyance operators | 71.21(a) Radio Report of death/illness—illness reports from ships (fillable PDF (individual case and cumulative report), phone, transcribed email) | 2,000 | 1 | 2/60
Aircraft commander or operators | 71.21 (b) Death/Illness reports from aircrafts (verbal, no form) | 1,700 | 1 | 2/60
Maritime conveyance operators | 71.21 (c) Gastrointestinal Illnesses reports 24 and 4 hours before arrival (MIDRS) | 17,000 | 1 | 3/60
Maritime conveyance operators | 71.21 (c) Recordkeeping -Medical logs (no form, captains provide logs) | 17,000 | 1 | 3/60
Isolated or Quarantined individuals | 71.33(c) Report by persons in isolation or surveillance (verbal, no form) | 11 | 1 | 3/60
Maritime conveyance operators | 71.35 Report of death/illness during stay in port (verbal, no form) | 5 | 1 | 30/60
Traveler | Locator Form used in an outbreak of public health significance | 2,700,000 | 1 | 5/60
Traveler | Locator Form used for reporting of an ill passenger(s) | 800 | 1 | 5/60
Importer | 71.51(c)(1), (d)—Valid Rabies Vaccination Certificates | 245,310 | 1 | 15/60
Importer | 71.51(c)(i), (ii), and (iii) exemption criteria for the importation of a dog without a rabies vaccination certificate | 43,290 | 1 | 15/60
Importer | 71.51(c)(2), (d) Application For Permission To Import A Dog Unimmunized Against Rabies | 1,400 | 1 | 15/60
Importer | 71.51(b) (3) Dogs/cats: Record of sickness or deaths (no form, record review) | 20 | 1 | 15/60
Importer/ Filer | CDC PGA Message Set for Importing Cats and Dogs | 30,000 | 1 | 15/60
Importer | 71.52(d) Turtle Importation Permits (no form, just written request) | 5 | 1 | 30/60
Importer | 71.56 (a)(2) African Rodents-Request for exemption ( no form, written request only) | 20 | 1 | 1
Importer/ Filer | CDC PGA Message Set for Importing African Rodents | 60 | 1 | 15/60
Importers | 71.55 Dead bodies (death certificates submitted) | 5 | 1 | 1
Filer | 71.56(a)(iii) Appeal (no form, written request only) | 2 | 1 | 1
Filer/Importer | Statement or documentation of Non-infectiousness (Documented, no form; authority under 71.32(b)) | 2,000 | 1 | 5/60
Importer/ Filer | CDC PGA Message Set for Importing African Rodent and All Family Viverridae Products | 2,000 | 1 | 15/60

Leroy A. Richardson,
Chief, Information Collection Review Office, Office of Scientific Integrity, Office of the Associate Director for Science, Office of the Director, Centers for Disease Control and Prevention.

[FR Doc. 2015-25105 Filed 10-1-15; 8:45 am]

BILLING CODE 4163-18-P